ENVIRONMENTAL PROTECTION AGENCY

[EPA-HQ-OPPT-2017-0318; FRL-12684-01-OCSPP]

Agency Information Collection Activities; Proposed Renewal Collection and Request for Comment; Request for Contractor Access to TSCA Confidential Business Information (CBI)

AGENCY: Environmental Protection Agency (EPA).

ACTION: Notice.

SUMMARY: In compliance with the Paperwork Reduction Act (PRA), this document announces the availability of and solicits public comment on the following Information Collection Request (ICR) that EPA is planning to submit to the Office of Management and Budget (OMB): Request for Contractor Access to TSCA Confidential Business Information (CBI) (EPA ICR No. 1250.13 and OMB Control No. 2070-0075). This ICR represents a renewal of an existing ICR that is currently approved through April 30, 2026. Before submitting the ICR to OMB for review and approval under the PRA, EPA is soliciting comments on specific aspects of the information collection that is summarized in this document. The ICR and accompanying material are available in the docket for public review and comment.

DATES: Comments must be received on or before August 25, 2025.

ADDRESSES: Submit your comments, identified by docket identification (ID) number Docket ID No, EPA-HQ-OPPT-2017-0318 online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman, Office of Program Support (Mail Code 7602M), Office of Chemical Safety and Pollution Prevention, Environmental Protection Agency, 1200 Pennsylvania Ave. NW, Washington, DC 20460-0001; telephone number: (202) 566-1204; email address: Sleasman.Katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Request for Contractor Access to TSCA Confidential Business Information (CBI).

EPA ICR No.: 1250.13.

OMB Control No.: 2070-0075.

ICR Status: This ICR is currently approved through April 30,2026. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: EPA procures contract support to facilitate the performance of certain duties. EPA may require contractors to handle Toxic Substances Control Act (TSCA) Confidential Business Information (CBI). Each contractor employee who will use TSCA CBI in the performance of his or her duties must be authorized for access to TSCA CBI through a multi-step process. The TSCA CBI Protection Manual (EPA Publication 7700 A2, revised October 2003) provides Federal and contractor employees with guidelines and operating procedures for handling TSCA CBI while performing their official duties, as well as the procedures to obtain authorization for access to TSCA CBI.

Specifically, for purposes of this information collection, contractor personnel must submit to EPA the EPA form titled “TSCA CBI Access Request, Agreement, and Approval” (EPA Form 7740-6). The Office of Pollution Prevention and Toxics (OPPT), uses EPA Form 7740-6 to collect information about contractor personnel so that the Agency can evaluate their suitability for access to TSCA CBI. EPA stores the information on the OPPT Chemical Information System (CIS).

The ICR, which is available in the docket along with other related materials, provides a detailed explanation of the collection activities and the burden estimate that is only briefly summarized here:

Form number(s): 7740-6.

Respondents/affected entities: Entities potentially affected by this ICR include North American Industrial Classification System (NAICS) codes 514 Information Services and 561 Administrative and Support Services.

Respondent's obligation to respond: Mandatory, per TSCA section 14 (15 U.S.C. 2613).

Estimated number of potential respondents: 288.

Frequency of response: On occasion.

Total estimated average number of responses for each respondent: 1.

Total estimated burden: 461 hours (per year). Burden is defined at 5 CFR 1320.3(b).

Total estimated costs: $25,220 (per year), includes $0 annualized capital investment or maintenance and operational costs.

III. Are there changes in the estimates from the last approval?

There is an increase of 120 hours in the total estimated respondent burden compared with that identified in the ICR currently approved by OMB. This increase reflects the increase in the number of contractors requesting CBI access from 214 to 288. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: June 19, 2025.
Nancy B. Beck,
Principal Deputy Assistant Administrator, Office of Chemical Safety and Pollution Prevention.

[FR Doc. 2025-11672 Filed 6-24-25; 8:45 am]

BILLING CODE 6560-50-P